ENVIRONMENTAL PROTECTION AGENCY

[EPA-HQ-OPPT-2023-0606; FRL-11581-05-OCSPP]

Public Engagement Webinars; Pre-Prioritization and Consideration of Existing Chemical Substances for Future Prioritization Under the Toxic Substances Control Act (TSCA); Technical Correction

AGENCY: Environmental Protection Agency (EPA).

ACTION: Notice; correction.

SUMMARY: In the Federal Register of August 28, 2024, EPA issued a notice to announce the scheduling of two virtual public meetings to provide information regarding existing chemical pre-prioritization and prioritization activities under the Toxic Substances Control Act (TSCA). That notice included an incorrect link in ADDRESSES for use in registering for the webinar and an incorrect link in in Unit II.D.3. to use for accessing the webinar website. This document provides the correct links.

DATES:

Webinars: Monday, September 30, 2024, (2 p.m.-4 p.m. ET), and Tuesday, October 1, 2024 (10 a.m. 12 p.m. ET).

Registration: You must register on or before September 25, 2024, to receive the webcast meeting link and audio teleconference information before the meeting, and to make oral comments during the meeting.

Special accommodations: Submit requests for special accommodations on or before September 13, 2024, to allow EPA time to process the request before the meeting.

Oral comments: To provide an oral comment during the webinar, register on or before September 25, 2024.

Written comments: Following the public webinars, written comments may be submitted during a 30-day public comment period that will open following the second public webinar on October 1, 2024, and will end on October 31, 2024.

ADDRESSES:

Webinar: Register online for each webinar as follows:

• For the webinar on Monday, September 30, 2024, register at: https://usepa.zoomgov.com/meeting/register/vJItduuoqzgvH1QTU561mR9PaHoG91WhfnA;

• For the webinar on Tuesday, October 1, 2024, register at: https://usepa.zoomgov.com/meeting/register/vJIsf-CrrzMqHJshuXmH7qTusPv-lURNA4M.

Special Accommodations: Please submit these requests to the person listed under FOR FURTHER INFORMATION CONTACT.

Oral comments: Register with the person listed under FOR FURTHER INFORMATION CONTACT.

Written comments: Submit written comments, identified by docket identification (ID) number EPA-HQ-OPPT-2023-0606, online at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Sarah Soliman, Office of Pollution Prevention and Toxics (7201M), Office of Chemical Safety and Pollution Prevention (OCSPP), Environmental Protection Agency, 1200 Pennsylvania Ave. NW, Washington, DC 20460-0001; telephone number: (202) 748-0251 email address: soliman.sarah@epa.gov.

SUPPLEMENTARY INFORMATION: EPA issued a notice in the Federal Register of August 28, 2024 (89 FR 68894) (FRL-11581-04-OCSPP), to announce the scheduling of two virtual public meetings to provide information regarding existing chemical pre-prioritization and prioritization activities under the Toxic Substances Control Act (TSCA). Subsequent to the publication of that notice, EPA identified that two links that were provided in that document are incorrect:

The link provided in ADDRESSES for use in registering for the webinar to be held on Tuesday, October 1, 2024, is corrected to read: https://usepa.zoomgov.com/meeting/register/vJIsf-CrrzMqHJshuXmH7qTusPv-lURNA4M.

The link provided in Unit II.D.3., for use to access the webinar information website is corrected to read: https://www.epa.gov/assessing-and-managing-chemicals-under-tsca/us-epa-webinar-next-round-chemical-substances-being.

Authority: 15 U.S.C. 2601 et seq.

Dated: August 29, 2024.
Michal Freedhoff,
Assistant Administrator, Office of Chemical Safety and Pollution Prevention.

[FR Doc. 2024-19853 Filed 9-3-24; 8:45 am]

BILLING CODE 6560-50-P